DEPARTMENT OF AGRICULTURE

Food Safety and Inspection Service

[Docket No. 02-047N]

Codex Alimentarius Commission: 35th Session of the Codex Committee on Food Additives and Contaminants

AGENCY: Food Safety and Inspection Service, USDA.

ACTION: Notice of public meeting, request for comments.

SUMMARY: The Office of the Under Secretary for Food Safety, United States Department of Agriculture, and the Food And Drug Administration (FDA) are sponsoring a public meeting on January 30, 2003, to provide information and receive public comments on agenda items that will be discussed at the meeting of the Codex Committee on Food Additives and Contaminants (CCFAC), which will be held in Arusha, Tanzania, on March 17-21, 2003. The Under Secretary and FDA recognize the importance of providing interested parties the opportunity to obtain background information on the Thirty-fifth Session of the Additives and Contaminants Committee of the Codex Alimentarius Commission (Codex) and to address items on the Agenda for the 35th CCFAC.

DATES: The public meeting is scheduled for Thursday, January 30, 2003, from 1 p.m. to 4 p.m.

ADDRESSES: The public meeting will be held in the Auditorium, Harvey W. Wiley Federal Building, 5100 Paint Branch Parkway, College Park, Maryland. To receive copies of the documents referenced in the notice contact the FSIS Docket Clerk, U.S. Department of Agriculture, Food Safety and Inspection Service, Room 102, Cotton Annex, 300 12th Street, SW., Washington, DC 20250-3700. The documents will also be accessible via the World Wide Web at the following address: http://www.codexalimentarius.net/ccfac35/fa03_01e.htm. If you have comments, please send an original and two copies to the FSIS Docket Clerk and reference Docket # 02-047N. All comments submitted will be available for public inspection in the Docket Clerk's Office between 8:30 a.m. and 4:30 p.m., Monday through Friday.

FOR FURTHER INFORMATION CONTACT: F. Edward Scarbrough, Ph.D., U.S. Manager for Codex, U.S. Codex Office, Food Safety and Inspection Service, Room 4861, South Building, 1400 Independence Avenue SW., Washington, DC 20250, Phone: (202) 205-7760, Fax: (202) 720-3157. Attendees are requested to pre-register as soon as possible by e-mail to USCCFAC@CFSAN.FDA.GOV.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and EPA manage and carry out U.S. Codex activities.

The Codex Committee on Food Additives and Contaminants establishes or endorses maximum or guideline levels for individual food additives, for contaminants (including environmental contaminants), and for naturally occurring toxicants in foodstuffs and animal feeds. In addition the Committee prepares priority lists of food additives and contaminants for toxicological evaluation by the Joint FAO/WHO Expert Committee on Food Additives; recommends specifications of identity and purity for food additives for adoption by the Commission; considers methods of analysis for the determination of food additives and contaminants in food; and considers and elaborates standards or codes for related subjects such as the labelling of food additives when sold as such, and food irradiation. The Committee is chaired by The Netherlands.

Issues To Be Discussed at the Public Meeting

The provisional agenda items will be discussed during the public meeting:

1. Adoption of the Agenda (CX/FAC 03/1).

2. Matters referred by the Codex Alimentarius Commission and other Codex Committees (CX/FAC 03/2).

3. Summary Report of the 59th Meeting of the Joint FAO/WHO Expert Committee on Food Additives (JECFA).

4. Action Required as a Result of Changes in ADI Status and other Toxicological Recommendations (CX/FAC 03/3).

5. Comments Submitted on the Proposed Draft Risk Assessment Policy Statement for the Application of Risk Analysis Principles to the Standard Setting Activities of the CCFAC in Conjunction with the Risk Assessments Performed by the JECFA.

Food Additives

6. Endorsement and/or Revision of Maximum Levels for Food Additives in Codex Standards (CX/FAC 03/5).

7. Consideration of the Codex General Standard for Food Additives.

(a) Report of the ad hoc Working Group on the Codex General Standard for Food Additives.

(b) Proposed Draft Revised Preamble to the Codex General Standard for Food Additives (CX/FAC 03/6).

(c) Proposed Draft Revised Food Category System of the Codex General Standard for Food Additives (CX/FAC 03/7).

(d) Comments Submitted on the Proposed Draft and Draft Revisions to Table 1 of the Codex General Standard for Food Additives in response to CL 2002/10-FAC and CL 2002/44-FAC.

(e) Comments Submitted on the Draft Revisions to the Annex to Table 3 of the Codex General Standard for Food Additives submitted in response to CL 2002/10-FAC.

8. Comments Submitted on the Discussion Paper on Processing Aids and Carriers (CX/FAC 02/9) in response to CL 2002/10-FAC.

9. Discussion Paper on the Use of Active Chlorine (CX/FAC 03/11).

10. (a) Draft Revised Codex General Standard for Irradiated Foods (CX/FAC 03/12).

(a) Consideration of a Revision or Amendments to the Guidelines Levels for Radionuclides in Foods Following Accidental Nuclear Contamination for Use in International Trade (CAC/GL 5-1989), including Guideline Levels for Radionuclides for Long-Term Use (CX/FAC 03/13).

11. (a) Report of the ad hoc Working Group on Specifications.

(b) Specifications for the Identity and Purity of Food Additives Arising from the 59th JECFA Meeting (CX/FAC 03/14).

12. (a) Comments Submitted on Revisions to the International Numbering System in response to CL 2002/29-FAC.

(b) Discussion Paper on the Harmonization of Terms Used by Codex and the Joint FAO/WHO Expert Committee on Food Additives for Sub-Classes and Technological Functions (CX/FAC 032/16).

Contaminants

13. Endorsement and/or Revision of Maximum Levels for Contaminants in Codex Standards (CX/FAC 03/17).

14. Codex General Standard for Contaminants and Toxins in Foods.

(a) Report of the ad hoc Working Group on Contaminants and Toxins.

(b) Schedule 1 of the Proposed Draft Codex General Standard for Contaminants and Toxins in Foods. (CX/FAC 03/18).

(c) Proposed Draft Principles for Exposure Assessment of Contaminants and Toxins in Foods (CX/FAC 03/19).

15. Mycotoxins in Food and Feed.

(a) Comments Submitted on the Proposed Draft Code of Practice for the Prevention of Patulin. Contamination in Apple Juice and Apple Juice Ingredients in Other Beverages in Response to CL 2002/29-FAC.

(b) Comments Submitted on the Draft Maximum Level for Patulin in Apple Juice and Apple Juice Ingredients in Other Beverages in Response to CL 2002/10-FAC.

(c) Comments Submitted on the Draft Code of Practice for the Prevention (Reduction) of Mycotoxin Contamination in Cereals, Including Annexes on Ochratoxin A, Zearalenone, Fumonisin and Tricothecenes in response to CL 2002/29-FAC.

(d) Discussion Paper on Aflatoxins in Tree Nuts, Including Information Submitted on Aflatoxin Contamination and Methods of Analysis for the Determination of Aflatoxin in Tree Nuts in response to CL 2002/10-FAC (CX/FAC 03/23).

(e) Proposed Draft Code of Practice for the Reduction of Aflatoxin Contamination in Tree Nuts (CX/FAC 03/24).

(f) Discussion Paper on the Development of a Code of Practice for the Reduction of Aflatoxin Contamination in Peanuts (CX/FAC 03/25).

(g) Discussion Paper on Dexoynivalenol, Including Information and Data Submitted on the Occurrence of Deoxynivalenol in Cereals in Response to CL 2002/10-FAC (CX/FAC 02/29).

16. Industrial and Environmental Contaminants in Foods

(a) Comments Submitted on the Draft Maximum Levels for Lead in Fish in Response to CL 2002/10-FAC.

(b) Comments Submitted on the Maximum Level for Lead in Milk and Milk Fat in Response to CL 2002/10-FAC.

(c) Proposed Draft Code of Practice for the Prevention and Reduction of Lead in Food (CX.FAC 03/28).

(d) Discussion Paper on Tin (CX/FAC 03/29).

(e) Comments Submitted on the Proposed Draft Maximum Levels for Tin in Response to CL 2002/10-FAC.

(f) Comments Submitted on the Proposed Draft Maximum Levels for Cadmium in Response to CL 2002/10-FAC.

(g) Position Paper on Dioxins and Dioxin Like PCBs, including Informaiton Submitted on Actual Levels and Methods of Analysis for Dioxin and Dioxin-Like PCBs in Response to CL 2002/10-FAC (CX/FAC 03/32).

(h) Proposed Draft Code of Practice for Source Directed Measures to Reduce Dioxin and Dioxin Like PCB Contamination of Foods (CX/FAC 03/33)

(i) Position Paper on Chloropropanols (CX/FAC 03/34).

General Issues

17. Comments Submitted on the Priority List of Food Additives, Contaminants and Naturally Occurring Toxicants Proposed for Evaluation by JECFA in response to CL 2002/10-FAC (CX/FAC 02/30).

18. Other Business and Future Work

Each issue listed will be fully described in documents distributed, or to be distributed, by The Netherlands' Secretariat to the Meeting. Members of the public may access or request copies of these documents (see ADDRESSES).

Public Meeting

At the January 30th public meeting, the agenda items will be described, discussed, and attendees will have the opportunity to pose questions and offer comments. Comments may be sent to the FSIS Docket Room (see ADDRESSES). Written comments should state that they relate to activities of the 35th CCFAC and Docket # 02-047N.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS web site at http://www.fsis.usda.gov/oa/update/update.htm. Click on the “Subscribe to the Constituent Update Listserv” link, then fill out and submit the form.

Done at Washington, DC on January 8, 2003.
F. Edward Scarbrough,
U.S. Manager for Codex Alimentarius.

[FR Doc. 03-694 Filed 1-13-03; 8:45 am]

BILLING CODE 3410-DM-P